DEPARTMENT OF AGRICULTURE

National Appeals Division; Notice of Modification of Privacy Act System of Records

AGENCY: National Appeals Division (NAD), USDA.

ACTION: Notice of modified privacy act system of records.

SUMMARY: Notice is hereby given that USDA proposes to alter the routine uses of two Privacy Act system of records, USDA/NAD-1, entitled “Participant Appeals, USDA/NAD” and USDA/NAD-2, entitled “National Appeals Division Tracking System (Automated), USDA/NAD” to allow for publication of NAD Hearing Officer and Director determinations on the Internet. In addition, NAD is announcing its intention to withhold certain limited information contained in these published decisions.

DATES: This notice will be adopted without further publication in the Federal Register on October 25, 2004, unless modified by a subsequent notice to incorporate comments received from the public. Although the Privacy Act requires only that the portion of the system that describes the “routine uses” of the system be published for comment, USDA invites comment on all portions of this notice. The contact person listed below must receive comments on or before October 25, 2004.

FOR FURTHER INFORMATION CONTACT: Ann Griffin, Special Assistant to the Director, National Appeals Division, USDA, 3101 Park Center Drive, Suite 1100, Alexandria, Virginia 22302, ann.m.griffin@usda.gov. (703) 305-1157.

SUPPLEMENTARY INFORMATION: Pursuant to the Privacy Act, 5 U.S.C. 552a, USDA is modifying two systems of records that are maintained by the National Appeals Division (NAD). The notice announcing the creation of the two systems of records appeared in the Federal Register on October 30, 1996, at 61 FR 55952. The purpose of this notice is to amend the routine uses of the systems to allow for publication of Hearing Officer and Director review determinations on the Internet. We plan to delete personal and location identifiers from determinations prior to publication on the Internet. NAD specifically invites comments on whether such redactions are sufficient to protect the privacy of program participants and, if not, the types of information that the public believes should be redacted from those determinations prior to publication. For example, NAD records may contain financial or other information the release of which could cause an unwarranted invasion of personal privacy. However, NAD believes removing personal and location identifiers prior to publication adequately balances the privacy of parties before NAD with the interest that determinations be made publicly available on the Internet. Modified Privacy Act notices are reproduced below.

USDA/NAD-1

System name:

Participant Appeals, USDA/National Appeals Division (NAD).

System Location:

National Appeals Division, Regional Offices: Eastern Regional Office, 8909 Purdue Road, Suite 240, Indianapolis, Indiana 46268; Southern Regional Office, 777 Walnut Grove Road, Suite LLB-1, Memphis, Tennessee 38088; 755 Parfet Street, Suite 494, Lakewood, Colorado 80215.

Categories of Individuals covered by the system:

Program participants who file an appeal because of a covered adverse decision by a covered Agency: Farm Service Agency, including a State, County, or area committee established under section 8(b)(5) of the Soil Conservation and Domestic Allotment Act (16 U.S.C. 5901(b)(5)), the Commodity Credit Corporation, the Natural Resource Conservation Service, the Federal Crop Insurance Corporation, the Risk Management Agency, the Rural Business-Cooperative Service, the Rural Housing Service, or the Rural Utilities Service.

Categories of records in the system:

The system consists of complete files on appeals, including materials maintained and submitted by an Agency related to an adverse decision; any information, correspondence, or documentation submitted by an Appellant or the Agency during the appeals process; and any statements of witnesses, tape recordings, or written transcripts of the hearings. Unless specifically requested, written transcript is not normally prepared.

Authority for maintenance of the system:

7 U.S.C. 6991, et seq.

Routine uses of records maintained in the system, including categories of users and the purpose of such uses:

USDA will disclose records in this system: (1) To the appropriate Agency, whether Federal, State, local, or foreign, charged with the responsibility of investigating or prosecuting a violation of law, or of enforcing or implementing a statute, rule, regulation, or order issued pursuant thereto, when information available indicates a violation or potential violation of law, whether civil, criminal or regulatory in nature, and whether arising by general statute, or by rule, regulation, or order issued pursuant thereto; (2) to a court, magistrate, or administrative tribunal, or to opposing counsel, in a proceeding before any of the above, for purposes of filing the official administrative record on discovery, which are relevant to the subject of the proceeding; (3) to a congressional office from the record of an individual in response to an inquiry from the congressional office at the request of that individual; and (4) to the public, for educational purposes, when determinations signed by NAD Hearing Officers or the NAD Director are published either in paper format or electronically on the NAD Web site, the current address of which is http://www.nad.usda.gov.

Policies and practices for storing, retrieving, accessing, retaining, and disposing of records in the system:

Storage:

Records are maintained in file folders.

Retrievability:

Records can be accessed by individual name, NAD log number, and State.

Safeguards:

Records are kept in offices attended by authorized personnel. Retention and disposal: Maintained six (6) years after the case is closed.

System manager(s):

Director, NAD, USDA, 3102 Park Center Drive, Suite 1100, Alexandria, Virginia 22302, telephone number (703) 305-2708. Notification procedure: An individual may request information as to whether the system contains records pertaining to him or her from Larry Shrum, External Affairs Officer, NAD, USDA, 3101 Park Center Drive, Suite 1120, Alexandria, Virginia 22302, larry.shrum@usda.gov, telephone number (703) 305-1164. A request for information pertaining to an individual should contain the requester's full name, address, and zip code.

Record access procedures:

Any individual may obtain information as to procedures for gaining access to and contesting the record in the system which pertains to him or her by submitting a written request to the appropriate official referred to in the proceeding paragraph.

Contesting record procedures:

Same as notification procedure. (The regulations for contesting contents of records and appealing initial determinations are set forth at 7 CFR 1.110-1.123.)

Record source categories:

Records in this system come primarily from Appellants, witnesses, and Agency personnel.

System exempted from certain provisions of the Act: No.

USDA/NAD-2

System name:

National Appeals Division Tracking System (Automated), USDA/National Appeals Division (NAD).

System location:

Management Field Office, USDA, and 8930 Ward Parkway, Kansas City, Missouri 64114.

Categories of individuals covered by the system:

Program participants who file an appeal because of a covered adverse decision by a covered Agency: Farm Service Agency, including a State, County, or area committee established under section 8(b)(5) of the Soil Conservation and Domestic Allotment Act (16 U.S.C. 5901 (b)(5), the Commodity Credit Corporation, the Natural Resource Conservation Service, the Federal Crop Insurance Corporation, the Risk Management Agency, the Rural Business-Cooperative Service, the Rural Housing Service, or the Rural Utilities Service.

Authority for maintenance of the system:

7 U.S.C. 6991 et seq. Routine uses of records maintained in the system, including categories of users and the purposes of such uses: USDA will disclose records in this system: (1) To the appropriate Agency, whether Federal, State, local or foreign, charged with the responsibility of investigating or prosecuting a violation of law, or of enforcing or implementing the statute, rule, regulation or order issued pursuant thereto, when information available indicates a violation or potential violation of law, whether civil, criminal, or regulatory in nature, and whether arising by general statute, or by rule, regulation, or order issued pursuant thereto; (2) to a court, magistrate, or administrative tribunal, or to opposing counsel, in a proceeding before any of the above, which are sought in the course of discovery and which are relevant to the subject matter of the proceedings; (3) to a congressional office from the record of an individual in response to an inquiry from the congressional office at the request of that individual; and (4) to the public, for educational purposes, when determinations signed by NAD Hearing Officers or the NAD Director are published either in paper format or electronically on the NAD Web site, the current address of which is http://www.nad.usda.gov.

Policies and practices for storing, retrieving, accessing, retaining, and disposing of records in the system:

Storage:

National Computer Center, Kansas City Security Staff uses multiple storage devices with full backup facilities; including both on-site and off-site storage and distant hot-site facilities.

Retrievability:

Records are indexed by Appellant name, NAD log number, State, and the name of the assigned Hearing Officer.

Safeguards:

Computer Associates Access Control Facility software controls that may use computer resources and protects data from accidental or deliberate destruction, modification, disclosure and misuse. Computer Associates Access Control Facility is maintained and used solely by members of the National Computer Center, Kansas City Security Staff.

Retention and disposal:

Records are kept indefinitely.

System manager(s) and address:

System Security Administration, Information Systems Security Staff, 2350 Market Street, St. Louis, Missouri 63103.

Notification procedure:

An individual may request information as to whether the system contains records pertaining to him or her from Larry Shrum, External Affairs Officer, NAD, USDA, 3101 Park Center Drive, Suite 1120, Alexandria, Virginia 22302. larry.shrum@usda.gov, telephone number (703) 305-1164. A request for information pertaining to an individual should contain the requester's full name, address, and zip code.

Record access procedures:

Any individual may obtain information as to the procedures for gaining access to and contesting a record in the system which pertains to him or her by submitting a written request to the appropriate official referred to in the proceeding paragraph.

Record source categories:

Records in this system come primarily from data entered by Regional offices maintaining appeal records on the program participant. Information in these records is obtained from Appellants and Agency decision makers.

System exempted from certain provisions of the Act:

No.

Dated: September 21, 2004.
Roger Klurfeld,
Director, National Appeals Division.

[FR Doc. 04-21490 Filed 9-23-04; 8:45 am]

BILLING CODE 3410-WY-P